DEPARTMENT OF COMMERCE

Census Bureau

2030 Census Advisory Committee

AGENCY: Census Bureau, Department of Commerce.

ACTION: Notice of committee establishment.

SUMMARY: The Census Bureau is publishing this notice to announce the establishment of the 2030 Census Advisory Committee (Committee). The Secretary of Commerce has determined that the Committee's establishment is necessary and in the public interest. The Committee will function solely as an advisory body and in compliance with provisions of the Federal Advisory Committee Act. Copies of the charter will be filed with the appropriate standing committees of the U.S. Congress and with the Library of Congress.

FOR FURTHER INFORMATION CONTACT: Shana Banks, Advisory Committee Branch Chief, Office of Program, Performance and Stakeholder Integration, shana.j.banks@census.gov, Department of Commerce, Census Bureau telephone 301-763-3815. For TTY callers, please use the Federal Relay Service at 1-800-877-8339.

SUPPLEMENTARY INFORMATION: The Committee will review and provide feedback related to 2030 Census plans and execution to assist the Census Bureau to devise strategies to increase census awareness and participation, reduce barriers to response, and enhance the public's trust and willingness to respond.

The Census Bureau will benefit from the insight, perspectives, and expertise of the Committee through recommendations on planning and implementation of the 2030 Census to advise the Census Bureau in conducting an accurate decennial census. The Committee will provide the Director of the Census Bureau periodic updates on insights regarding various topics relating to preparation for the 2030 Census.

Robert L. Santos, Director, Census Bureau, approved the publication of this Notice in the Federal Register.

Dated: August 21, 2023.
Shannon Wink,
Program Analyst, Policy Coordination Office, U.S. Census Bureau.

[FR Doc. 2023-18339 Filed 8-24-23; 8:45 am]

BILLING CODE 3510-07-P